Title 3—

The President

Proclamation 9631 of August 25, 2017

Women's Equality Day, 2017

By the President of the United States of America

A Proclamation

On August 26, 1920, America ratified the 19th Amendment, securing for women a sacred right of citizenship: the right to vote. On the anniversary of that historic day, we celebrate Women's Equality Day and the innumerable contributions women have made to their families, their communities, and in service to our country.

Women's suffrage in America has its roots in the meeting of a group of trailblazers in 1848, in Seneca Falls, New York. While that meeting sparked a movement, suffragists fought for 72 long years thereafter to secure the vote for women nationwide. Women have always been instrumental to America's greatness, but with greater access to governing institutions through national suffrage, generations of women have been able to use the power of the ballot to shape their communities and help keep America a beacon of freedom and opportunity for the world.

My Administration will continue to support the advancement of women, in every corner of the Nation. One of my first actions as President was to establish the United States-Canada Council for Advancement of Women Entrepreneurs and Business Leaders. Recently, I pledged $50 million to the new World Bank Group Women Entrepreneurs Finance Initiative. By expanding access to capital and networks, this important initiative will address many of the unique challenges women entrepreneurs in the developing world face when financing and growing their businesses. Through these efforts and others, we will support bold and innovative women leaders and entrepreneurs domestically and abroad, recognizing that their successes make our economy, and our Nation, stronger.

My Administration is committed to fostering an economy where all women can succeed and thrive. We must prioritize the needs of working mothers and families, including access to affordable childcare. Therefore, for the first time in the history of this country, my budget proposes a national paid family leave program. Our working families must be able to provide and care for their children without fear of financial insolvency, to strengthen our communities and drive a booming economy.

As President, I am also working to ensure that all women have access to the training they need to succeed in our modern economy, especially in science, technology, engineering, and math (STEM) fields. Women make up only 12 percent of engineers, and the percentage of women in computer and mathematical occupations has decreased over the past three decades. To empower women to participate in all sectors of our economy, my Administration is committed to workforce development, particularly through the expansion of apprenticeships and vocational education. We must break down the biases and barriers women in STEM face, and encourage every American to pursue excellence in his or her chosen field.

As we observe Women's Equality Day, commemorating the 19th Amendment, we honor America's female pioneers. These resilient women have inspired countless others to challenge the status quo in order to advance the ultimate American value: that all men and women are created equal. Together, we are creating a Nation where every daughter in America can grow up believing in herself, her future, and following her heart toward the American Dream.

NOW, THEREFORE, I, DONALD J. TRUMP, President of the United States of America, by virtue of the authority vested in me by the Constitution and the laws of the United States, do hereby proclaim August 26, 2017, as Women's Equality Day. I call upon the people of the United States to celebrate the achievements of women and observe this day with appropriate programs and activities.

IN WITNESS WHEREOF, I have hereunto set my hand this twenty-fifth day of August, in the year of our Lord two thousand seventeen, and of the Independence of the United States of America the two hundred and forty-second.

[FR Doc. 2017-18541

Filed 8-29-17; 11:15 am]

Billing code 3295-F7-P